ENVIRONMENTAL PROTECTION AGENCY

[FRL-10280-01-R8]

Clean Air Act Operating Permit Program; Petition for Objection to State Operating Permit for Hunter Power Plant (Emery County, Utah)

AGENCY: Environmental Protection Agency (EPA).

ACTION: Notice of final order on petition to object to state operating permit.

SUMMARY: The EPA Administrator signed an order dated September 27, 2022, denying the petition submitted by the Sierra Club requesting that EPA object to the issuance of the Clean Air Act (CAA) title V operating permit (no. 1500101004) issued to the PacifiCorp Hunter Power Plant in Castle Dale, Emery County, Utah, by the Utah Department of Environmental Quality, Division of Air Quality (UDAQ). The September 27, 2022 Order responds to Sierra Club's January 14, 2022 petition regarding title V operating permit no. 1500101004 (2021 Permit). The Order constitutes final action on the petition.

ADDRESSES: You may review copies of the Order and petition electronically at https://www.epa.gov/title-v-operating-permits/title-v-petition-database. To reduce the risk of COVID-19 transmission, for this action we do not plan to offer hard copy review of these documents or other supporting information. Please email or call the person listed in the FOR FURTHER INFORMATION CONTACT section if you need to make alternative arrangements for access to the documents.

FOR FURTHER INFORMATION CONTACT: Daniel Fagnant, Air Permitting and Monitoring Branch (8ARD-PM), EPA Region 8, 1595 Wynkoop Street, Denver, Colorado, 80202-1129. Phone number: (303) 312-6927, email address: fagnant.daniel@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the Act, a petition for judicial review of those portions of the Order that deny issues in the petition may be filed in the United States Court of Appeals for the appropriate circuit within 60 days from the date this document appears in the Federal Register.

State Operating Permit for Hunter Power Plant (Emery County, Utah)

EPA received petitions from the Sierra Club, requesting that EPA object to the 2016, 2020, and 2021 operating permits for the Hunter Power Plant. Among other things, the Sierra Club claims that the operating permit is deficient because it does not include Prevention of Significant Deterioration (PSD) permitting requirements. More specifically, the Sierra Club asserts that the operating permit should include Best Achievable Control Technology requirements for nitrogen oxide, sulfur dioxide and particulate matter, terms and conditions necessary to adequately protect national ambient air quality standards, and PSD increments. EPA denied the 2016 petition on October 16, 2017; however, the Sierra Club sought judicial review of a portion of the 2017 Order in the United States Court of Appeals for the Tenth Circuit. On July 2, 2020, the Tenth Circuit issued a decision vacating and remanding the 2017 Order. EPA's January 13, 2021 Order responded to the Tenth Circuit's decision, replaced the vacated portion of EPA's 2017 Order, and separately responded to the 2020 Petition. On October 1, 2021, UDAQ transmitted a proposed permit to EPA for the Agency's 45-day review. EPA did not object during this period. On November 19, 2021, UDAQ finalized the Permit. On January 14, 2022, the Sierra Club filed the Petition that this order responds to.

On September 27, 2022, the Administrator issued an Order denying the January 14, 2022 Petition. The Order explains EPA's basis for denying the petition.

Dated: October 13, 2022.
KC Becker,
Regional Administrator, Region 8.

[FR Doc. 2022-22665 Filed 10-18-22; 8:45 am]

BILLING CODE 6560-50-P